DEPARTMENT OF COMMERCE

National Oceanic and Atmospheric Administration

[RTID 0648-XD742]

Western Pacific Fishery Management Council; Public Meetings; Correction

AGENCY: National Marine Fisheries Service (NMFS), National Oceanic and Atmospheric Administration (NOAA), Commerce.

ACTION: Notice of correction of a public meeting.

SUMMARY: The Western Pacific Fishery Management Council (Council) will hold its 151st Scientific and Statistical Committee (SSC), Executive and Budget Standing Committee (SC) and its 198th Council meeting to take actions on fishery management issues in the Western Pacific Region. The Council will also hold a joint meeting of the Advisory Panel (AP), the Fishing Industry Advisory Committee (FIAC), and the Non-Commercial Fisheries Advisory Committee (NCFAC). The correction is for the Executive and Budget SC to be held on March 15, 2024. See SUPPLEMENTARY INFORMATION.

DATES: The meetings will be held between March 12 and March 20, 2024.

ADDRESSES: The 151st SSC meeting will be held as a hybrid meeting for SSC members and the public, with a remote participation option available via WebEx. In-person attendance will be hosted at the Council office, 1164 Bishop Street, Suite 1400, Honolulu, HI 96813.

The Joint Meeting of the AP, FIAC, and NCFAC, and the 198th Council Meeting will be held as hybrid meetings for the advisory body members, Council members and the public, with a remote participation option available via Webex. In-person attendance will be hosted at the Ala Moana Hotel, Hibiscus Ballroom, 410 Atkinson Drive, Honolulu, HI 96814.

Specific information on joining the meeting, connecting to the web conference and providing oral public comments will be posted on the Council website at www.wpcouncil.org. For assistance with the web conference connection, contact the Council office at (808) 522-8220.

Council address: Western Pacific Fishery Management Council, 1164 Bishop Street, Suite 1400, Honolulu, HI 96813.

FOR FURTHER INFORMATION CONTACT: Kitty M. Simonds, Executive Director, Western Pacific Fishery Management Council; phone: (808) 522-8220.

SUPPLEMENTARY INFORMATION: The original meeting notice published in the Federal Register on February 27, 2024 (89 FR 14444). The original notice stated that the Executive and Budget SC meeting will be held as a hybrid meeting for members and the public, with a remote participation option available via WebEx. In-person attendance will be hosted at the Council office, 1164 Bishop Street, Suite 1400, Honolulu, HI 96813.

This notice corrects that meeting to read the Executive and Budget SC meeting will be held by web conference via Webex.

All other previously-published information remains the same.

Authority: 16 U.S.C. 1801 et seq.

Dated: February 27, 2024.
Rey Israel Marquez,
Acting Deputy Director, Office of Sustainable Fisheries, National Marine Fisheries Service.

[FR Doc. 2024-04342 Filed 2-29-24; 8:45 am]

BILLING CODE 3510-22-P